DEPARTMENT OF THE TREASURY

Internal Revenue Service

26 CFR Part 1

[TD 9281]

RIN 1545-BF70

Determination of Interest Expense Deduction of Foreign Corporations; Correction

AGENCY: Internal Revenue Service (IRS), Treasury.

ACTION: Correcting amendment.

SUMMARY: This document contains a correction to final and temporary regulations (TD 9281), that were published in the Federal Register on Thursday, August 17, 2006 (71 FR 47443). This regulation revised the Income Tax Regulations relating to the determination of the interest expense deduction of foreign corporations and applies to foreign corporations engaged in a trade or business within the United States.

DATES: This correction is effective August 17, 2006.

FOR FURTHER INFORMATION CONTACT: Gregory Spring or Paul Epstein, (202) 622-3870 (not a toll-free number).

SUPPLEMENTARY INFORMATION:

Background

The final and temporary regulations (TD 9281) that is the subject of this correction are under sections 882 and 884 of the Internal Revenue Code.

Need for Correction

As published, TD 9281 contains errors that may prove to be misleading and are in need of clarification.

List of Subjects in 26 CFR Part 1

Income taxes, Reporting and recordkeeping requirements.

Correction of Publication

Accordingly, 26 CFR part 1 is corrected by making the following correcting amendment:

PART 1—INCOME TAXES

Paragraph 1. The authority citation for part 1 continues to read in part as follows:

Authority: 26 U.S.C. 7805 * * *

Par. 2. Section 1.882-5 paragraph (a)(7) is revised to read as follows:

§ 1.882-5 Determination of interest deduction.

* * * * *

(a)(7) through (a)(7)(iii) [Reserved]. For further guidance, see entry in § 1.882-5T(a)(7) through (a)(7)(iii).

* * * * *

Par. 3. Section 1.882-5T is amended by revising the last sentence of paragraph (c)(2)(iv) to read as follows:

§ 1.882-5T Determination of interest deduction (temporary).

* * * * *

(c) * * *

(2) * * *

(iv) * * * The rules of § 1.882-5(b)(3) apply in determining the total value of applicable worldwide assets for the taxable year, except that the minimum number of determination dates are those stated in § 1.882-5(c)(2)(i).

* * * * *

Cynthia E. Grigsby,
Senior Federal Register Liaison Officer, Publications and Regulations Branch, Legal Processing Division, Associate Chief Counsel, (Procedure and Administration).

[FR Doc. E6-15893 Filed 9-27-06; 8:45 am]

BILLING CODE 4830-01-P